COMMITTEE FOR PURCHASE FROM PEOPLE WHO ARE BLIND OR SEVERELY DISABLED

Procurement List Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

DATES: Comments Must be Received on or Before: 6/18/2012.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 8501-8506) in connection with the products and services proposed for addition to the Procurement List.

Comments on this certification are invited. Commenters should identify the statement(s) underlying the certification on which they are providing additional information.

End of Certification

The following products and services are proposed for addition to the Procurement List for production by the nonprofit agencies listed:

Products

Striking Tools

NSN: 5120-00-NIB-0001—Hammer—2 lb, Engineer's, 16″ Fiberglass Handle.

NSN: 5120-00-NIB-0002—Hammer—3 lb, Engineer's, 16″ Fiberglass Handle.

NSN: 5120-00-NIB-0003—Hammer—4 lb, Engineer's, 16″ Fiberglass Handle.

NSN: 5120-00-NIB-0004—Hammer—3 lb, Drilling, 10.5″ Fiberglass Handle.

NSN: 5120-00-NIB-0005—Hammer—4 lb, Drilling, 10.5″ Fiberglass Handle.

NSN: 5120-00-NIB-0006—Axe—3.5 lb, Michigan Style, Single Bit, 36″ Fiberglass Handle.

NSN: 5120-00-NIB-0007—Axe—3.5 lb, Michigan Style, Double Bit, 36″ Fiberglass Handle.

NSN: 5120-00-NIB-0008—Hammer—16 lb, Sledge, Double Faced, 36″ Fiberglass Handle.

NSN: 5120-00-NIB-0010—Hammer—20 lb, Sledge, Double Faced, 36″ Fiberglass Handle.

NSN: 5120-00-NIB-0011—Splitting Maul—6 lb, Sledge Eye, 36″ Fiberglass Handle.

NSN: 5120-00-NIB-0012—Splitting Maul—8 lb, Sledge Eye, 36″ Fiberglass Handle.

NPA: Keystone Vocational Services, Inc., Sharon, PA.

Contracting Activity: General Services Administration, Kansas City, MO.

Coverage: B-List for the Broad Government Requirement as aggregated by the General Services Administration.

NSN: MR 1169—Set, Bowl and Lid, Blue, 4 Piece.

NSN: MR 1168—Carrier, Cake and Cupcake, Collapsible.

NPA: Industries for the Blind, Inc., West Allis, WI.

Contracting Activity: Military Resale-Defense Commissary Agency, Fort Lee, VA

Coverage: C-List for the requirements of military commissaries and exchanges as aggregated by the Defense Commissary Agency.

Services

Service Type/Location: Janitorial/Custodial Service, WA104 Seattle-Marysville Air Force Reserve Center (AFRC), 13613 40th Avenue NE., Marysville, WA.

NPA: Portland Habilitation Center, Inc., Portland, OR.

Contracting Activity: Dept of the Army, W6QM MICC-ARCC North, Fort Mccoy, WI.

Service Type/Location: Document Destruction Service, Social Security Administration, Office of Disability Adjudication and Review (ODAR), (offsite: 9104 Red Branch Road, Columbia, MD), One Skyline Tower, 5107 Leesburg Pike, Falls Church, VA.

NPA: Athelas Institute, Inc., Columbia, MD

Contracting Activity: Social Security Administration, Hdqtrs—Office of Acquisition & Grants, Baltimore, MD.

Service Types/Locations: Grounds Maintenance, Gallagher Memorial, US Army Reserve Center (USARC), 1300 West Brown Road, Las Cruces, NM.

Janitorial Service, US Army Reserve Center (USARC), Building 6981, 11601 Montana, El Paso, TX.

NPA: Let's Go To Work, El Paso, TX.

Contracting Activity: Dept of the Army, W6QM MICC-Ft Hunter (RC-W), Presidio of Monterey, CA.

Service Type/Location: Laundry Service, Veterans Administration Medical Center (VAMC), (offsite: 1809 W 2nd Avenue, Indianola, IA), 601 Highway 6 West, Iowa City, IA.

NPA: Genesis Development, Jefferson, IA.

Contracting Activity: Department of Veterans Affairs, Nebraska Western-Iowa Health Care System, Omaha, NE.

Patricia Briscoe,
Deputy Director, Business Operations, (Pricing and Information Management).

[FR Doc. 2012-12113 Filed 5-17-12; 8:45 am]

BILLING CODE 6353-01-P